DEPARTMENT OF TRANSPORTATION

Federal Aviation Administration

Notice of Intent To Rule on Application To Impose and Use the Revenue From a Passenger Facility Charge (PFC) at Key West International Airport, Key West, FL

AGENCY: Federal Aviation Administration (FAA), DOT.

ACTION: Notice of intent to rule on application.

SUMMARY: The FAA proposes to rule and invites public comment on the application to impose and use the revenue from a PFC at Key West International Airport under the provisions of the Aviation Safety and Capacity Expansion Act of 1990 (Title IX of the Omnibus Budget Reconciliation Act of 1990) (Public Law 101-508) and Part 158 of the Federal Aviation Regulations (14 CFR part 158).

DATES: Comments must be received on or before May 4, 2001.

ADDRESSES: Comments on this application may be mailed or delivered in triplicate to the FAA at the following address: Orlando Airports District Office, 5950 Hazeltine National Drive, Suite 400, Orlando, Florida 32822.

In addition, one copy of any comments submitted to the FAA must be mailed or delivered to James L. Roberts, County Administrator of Monroe County Board of County Commissioners at the following address: 3491 South Roosevelt Boulevard, Key West, Florida 33040.

Air carriers and foreign air carriers may submit copies of written comments previously provided to Monroe County Board of County Commissioners under section 158.23 of Part 158.

FOR FURTHER INFORMATION CONTACT: Matthew J. Thys, Program Manager, Orlando Airports District Office, 5950 Hazeltine National Drive, Suite 400, Orlando, Florida 32822, (407) 812-6331 Ext. 21. The application may be reviewed in person at this same location.

SUPPLEMENTARY INFORMATION: The FAA proposes to rule and invites public comment on the application to impose and use the revenue from a PFC at Key West International Airport under the provisions of the Aviation Safety and Capacity Expansion Act of 1990 (Title IX of the Omnibus Budget Reconciliation Act of 1990) (Public Law 101-508) and Part 158 of the Federal Aviation Regulations (14 CFR part 158).

On March 27, 2001, the FAA determined that the application to impose and use the revenue from a PFC submitted by Monroe County Board of County Commissioners was substantially complete within the requirements of section 158.25 of Part 158. The FAA will approve or disapprove the application, in whole or in part, no later than July 13, 2001.

The following is a brief overview of the application.

PFC Application No.: 01-05-C-00-EYW.

Level of the Proposed PFC: $3.00.

Proposed Charge Effective Date: August 1, 2001.

Proposed Charge Expiration Date: December 1, 2003.

Total Estimated Net PFC Revenue: $1,631,431.

Brief Description of Proposed Project(s)

PFC Application and Administration

Construct General Aviation Aprons (Ph. 1 & 2)

Runway Safety Area Study (EYW & MTH)

Install Runway 7-25 PAPI's (MTH)

Mark Runway 7-25 (MTH)

Terminal Modifications

Install Stand-By Generator

Update Master Plan and ALP

Update Master Plan and ALP (MTH)

Construct T-Hangar Taxiways (MTH)

Construct Aircraft Parking Aprons (MTH)

Environmental Mitigation Rwy 9 RPZ and RSA

Rehab Airport Beacon Tower/Replace Beacon

Construct T-Hangar Taxiways

Construct General Aviation Aprons

Runway 9-27 RPZ and RSA Clearing

Construct ARFF Building (MTH)

Seal Coat Aircraft Parking Aprons

Acquire RPZ Land Runway 27

Class or Classes of Air Carriers, which the Public Agency has Requested not be Required to Collect PFCs: ATCO-Nonscheduled/On-Demand Air Carriers filing FAA Form 1800-31

Any person may inspect the application in person at the FAA office listed above under FOR FURTHER INFORMATION CONTACT.

In addition, any person may, upon request, inspect the application, notice and other documents germane to the application in person at the Monroe County Board of County Commissioners.

Issued in Orlando, FL on March 27, 2001.
W. Dean Stringer,
Manager, Orlando Airports District Office, Southern Region.

[FR Doc. 01-8193 Filed 4-3-01; 8:45 am]

BILLING CODE 4910-13-M